DEPARTMENT OF HEALTH AND HUMAN SERVICES

Centers for Disease Control and Prevention

[60Day-11-11BS]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Carol E. Walker, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

“Characteristics of Mine Worker Resilience in Emergency Escape”—New—National Institute for Occupational Safety and Health (NIOSH), Centers for Disease Control and Prevention (CDC).

Background and Brief Description

NIOSH, under Public Law 91-173 as amended by Publ. L. 95-164 (Federal Mine Safety and Health Act of 1977) has the responsibility to conduct research to improve working conditions and to prevent accidents and occupational diseases in underground coal mining.

A mine emergency poses substantial psychological and emotional challenges for the miners and personnel who need to respond to an underground coal mining incident or escape from an underground mine. Psychological issues can continue to be a problem after the incident takes place, as evidenced by a number of suicides and loss of experienced mining and rescue personnel in the aftermath of mining disasters over the past decade. While attention has been paid to the products and technologies needed to prevent and respond to mine emergencies, the personal factors that influence resilience in emergency situations, especially those necessary for self-escape, have been largely overlooked.

Resilience has been defined in a number of ways; this task will initially define resilience as the psychological and social characteristics of an individual miner and mine crew that help them to withstand significant adversity and to “bounce back” after a trauma. The authors of Strategies for Escape and Rescue from Underground Coal Mines concluded that developing resilient miners, who are able to respond and self-escape if necessary, is needed to improve emergency response in the U.S. underground coal industry [Alexander, et al. 2010]. Furthermore, it is crucial to develop miners and mining crews who are equipped with the psycho-social resilience needed pre-, during, and post-event to support positive self-escape behaviors.

The goal of this task is to define and measure resiliency in underground coal miners and mine crews through a survey instrument, and to recommend ways to increase their resilience such that they are psychologically prepared to self-escape and can psychologically recover in a healthy manner after a mine emergency.

To accomplish this goal, NIOSH researchers will field test a measure of resiliency they have designed. A survey will be administered to 200 underground coal miners. The survey is designed to assess miners' resiliency. NIOSH will use the results of the survey to adapt and disseminate the measure. Eventually, the measure will provide data on miners' resiliency which, in the next phase of the task, will result in organizational interventions for a more psychologically resilient workforce. All participants will be between the ages of 18 and 65, currently employed, and living in the United States.

Findings will be used to improve the definition and measure of resilience in coal mining. There is no cost to respondents other than their time.

Estimated Annualized Burden Hours
Respondents | Number of respondents | Number of responses per respondent | Average burden response (in hours) | Total burden (in hours)
Miners and Crew | 200 | 1 | 30/60 | 100
Total |  |  |  | 100

Dated: January 26, 2011.
Carol E. Walker,
Reports Clearance Officer, Centers for Disease Control and Prevention.

[FR Doc. 2011-2421 Filed 2-2-11; 8:45 am]

BILLING CODE 4163-18-P